DEPARTMENT OF TRANSPORTATION

Federal Aviation Administration

14 CFR Part 39

[Docket No. 2003-NM-206-AD; Amendment 39-13319; AD 2003-20-01]

RIN 2120-AA64

Airworthiness Directives; Airbus Model A300 B4-600, B4-600R, and F4-600R (Collectively Called A300-600) Series Airplanes, and Airbus Model A310 Series Airplanes

AGENCY: Federal Aviation Administration, DOT.

ACTION: Final rule; request for comments.

SUMMARY: This amendment supersedes an existing airworthiness directive (AD), applicable to certain Airbus Model A300 B4-600, B4-600R, and F4-600R (collectively called A300-600) series airplanes, and Airbus Model A310 series airplanes, that currently requires replacement of Honeywell inertial reference units (IRU) with new or modified Honeywell IRUs. For certain airplanes, that existing AD also requires replacement of Litton IRUs, mode selector units (MSU), and an inertial sensor display unit (ISDU) with new Honeywell IRUs, MSUs, and a new ISDU. This amendment removes the requirement to replace the Litton IRUs, MSUs, and ISDU with Honeywell IRUs, MSUs, and ISDU. This amendment also allows the use of certain Honeywell IRUs as spare parts until the final compliance date of this AD. The actions specified in this AD are intended to prevent loss of positioning data and a display of incorrect attitude data, which could compromise the ability of the flightcrew to maintain the safe flight and landing of the airplane. This action is intended to address the identified unsafe condition.

DATES: Effective September 29, 2003.

The incorporation by reference of certain publications listed in the regulations was approved previously by the Director of the Federal Register as of September 22, 2003 (68 FR 49340, August 18, 2003).

Comments for inclusion in the Rules Docket must be received on or before October 29, 2003.

ADDRESSES: Submit comments in triplicate to the Federal Aviation Administration (FAA), Transport Airplane Directorate, ANM-114, Attention: Rules Docket No. 2003-NM-206-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2003-NM-206-AD” in the subject line and need not be submitted in triplicate. Comments sent via the Internet as attached electronic files must be formatted in Microsoft Word 97 or 2000 or ASCII text.

The service information referenced in this AD may be obtained from Airbus Industrie, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Anthony Jopling, Program Manager, International Branch, ANM-116, FAA, Transport Airplane Directorate, 1601 Lind Avenue, SW., Renton, Washington 98055-4056; telephone (425) 227-2190; fax (425) 227-1149.

SUPPLEMENTARY INFORMATION: On August 6, 2003, the FAA issued AD 2003-16-15, amendment 39-13268 (68 FR 49340, August 18, 2003), applicable to certain Airbus Model A300 B4-600, B4-600R, and F4-600R (collectively called A300-600) series airplanes, and Airbus Model A310 series airplanes. That AD requires replacement of Honeywell inertial reference units (IRU) with new or modified Honeywell IRUs. For certain airplanes, that AD also requires replacement of Litton IRUs, mode selector units (MSU), and an inertial sensor display unit (ISDU) with new Honeywell IRUs, MSUs, and a new ISDU. That action was prompted by notification from the Direction Geéneérale de l'Aviation Civile (DGAC), which is the airworthiness authority for France, that an operator reported loss of positioning data and the display of incorrect attitude data shortly after take-off because the airplane was moved on the ground before the IRU alignment procedure had been completed. The actions required by that AD are intended to prevent loss of positioning data and a display of incorrect attitude data.

Related Rulemaking

It should be noted that the FAA previously issued AD 2001-13-24, amendment 39-12306 (66 FR 35532, July 6, 2001), applicable to certain Airbus Model A300-600 and A310 series airplanes. The DGAC notified the FAA that an unsafe condition may exist on certain Airbus Model A310 series airplanes and certain Airbus Model A300-600 series airplanes with certain Honeywell IRUs. The DGAC advised that an operator reported the loss of positioning data and the display of incorrect attitude data shortly after take-off, because the aircraft had been moved on the ground before the end of the IRU alignment procedure. This condition, if not corrected, could result in the loss of positioning data and a display of incorrect attitude data, which could compromise the ability of the flightcrew to maintain the safe flight and landing of the airplane. AD 2001-13-24 requires revisions to the Normal Procedures section of the airplane flight manual to prohibit movement of the airplane during IRU alignment and to provide instructions to the flightcrew to check the navigational display system to ensure correct display of all primary attitude and heading information prior to flight. That action is intended to address the identified unsafe condition.

Actions Since Issuance of Previous Rule

Since the issuance of AD 2003-16-15, we reviewed the requirements of that AD and noted incorrect information concerning the removal and replacement of certain Litton IRU equipment. The applicability section of AD 2003-16-15 states that that AD is applicable to certain Airbus Model A300-600 and A310 series airplanes equipped with certain Honeywell IRU part numbers. Therefore, Airbus Model A300-600 and A310 series airplanes equipped with Litton IRUs are not subject to the requirements of AD 2003-16-15.

The procedures for performing the actions required by AD 2003-16-15 are stated in Airbus Service Bulletins A300-34-6135, Revision 01 (for Model A300-600 series airplanes); and A310-34-2158, Revision 01 (for Model A310 series airplanes); both dated September 10, 2001. These service bulletins describe procedures for replacement of Honeywell IRUs with new or modified Honeywell IRUs, and were identified as mandatory service bulletins in French airworthiness directive 2001-303(B), dated July 25, 2001. Airbus Service Bulletins A300-34-6135, Revision 01; and A310-34-2158, Revision 01; specify prior or concurrent accomplishment of Airbus Service Bulletins A300-34-6082, Revision 05, dated February 13, 1998; and A310-34-2104, dated May 12, 1995; as applicable. Service Bulletins A300-34-6082 and A310-34-2104 both include provisions for those operators who have previously replaced Litton IRUs with Honeywell IRUs. For several specific aircraft these service bulletins specify the replacement of Litton IRUs with Honeywell IRUs as required changes associated with mandatory service bulletins. As a result, the replacement of certain Litton IRUs with certain Honeywell IRUs was incorrectly identified as a requirement in paragraphs (c) and (d) of AD 2003-16-15.

Therefore, one of the purposes of this AD is to remove that requirement to replace certain Litton IRUs with certain Honeywell IRUs. The Litton IRUs are designed to provide clear indication to the flightcrew if the aircraft has been moved during IRU alignment, and are not subject to the unsafe condition addressed in AD 2003-16-15.

In addition, we have removed paragraph (e), Parts Installation, of AD 2003-16-15, which prohibits the installation of certain Litton and Honeywell IRU part numbers. As stated previously, the Litton IRUs are not subject to the unsafe condition addressed by this AD. Paragraph (e)(1) of AD 2003-16-15 requires that, as of September 22, 2003 (the effective date of that AD), operators no longer install Honeywell IRUs having part numbers HG1050BD02 and HG1050BD05. The actions required by AD 2003-15-16 are specified in Airbus Service Bulletins A300-34-6135, Revision 01; and A310-34-2158, Revision 01; both dated September 10, 2001. These bulletins state that “it is impossible to mix old P/Ns with new P/Ns.” Therefore it is necessary for the operators to replace or modify all three IRUs installed on each aircraft simultaneously. It is the understanding of the FAA that operators often only stock one spare unit in each field spares location. In order to adequately prepare for the possibility of IRU failures in the field after the effective date of that AD, each operator would have to replace their current spare IRUs with three updated IRUs, thus increasing their allotment of spares threefold. It is unlikely that Honeywell will be able to distribute the necessary number of IRUs to the operators' field spares locations prior to the effective date of this AD. It is likely that delay of delivery of these replacement IRUs would result in flight delays and/or cancellations. Continued compliance with AD 2001-13-24, described previously, provides adequate assurance that safety will not be compromised by continued use of the subject Honeywell IRUs until the parts replacement requirements of this AD are accomplished. Therefore, we have determined that a Parts Installation paragraph is not required in this AD.

FAA's Determination

In light of the above, we have determined that it is necessary to issue this supersedure AD to ensure the continued operational safety of the fleet.

U.S. Type Certification of the Airplanes

These airplane models are manufactured in France and are type-certificated for operation in the United States under the provisions of § 21.29 of the Federal Aviation Regulations (14 CFR 21.29) and the applicable bilateral airworthiness agreement.

Explanation of Requirements of Rule

Since an unsafe condition has been identified that is likely to exist or develop on other airplanes of the same type design registered in the United States, this AD supersedes AD 2003-16-15 to continue to require replacement of Honeywell IRUs with new or modified Honeywell IRUs. This AD removes all references to the replacement of Litton IRUs, MSUs, and a new ISDU with Honeywell IRUs, MSUs, and a new ISDU. This AD also removes paragraph (e), Parts Installation, of AD 2003-16-15, and allows the use of certain Honeywell IRUs as spare parts until the final compliance date of this AD. The actions are required to be accomplished in accordance with Airbus Service Bulletin A300-34-6135, Revision 01 (for Model A300-600 series airplanes); and Airbus Service Bulletin A310-34-2158, Revision 01 (for Model A310 series airplanes); both dated September 10, 2001.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption “ADDRESSES.” All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2003-NM-206-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-13268 (68 FR 49340, August 18, 2003), and by adding a new airworthiness directive (AD), amendment 39-13319, to read as follows:

2003-20-01 Airbus: Amendment 39-13319. Docket 2003-NM-206-AD. Supersedes AD 2003-16-15, Amendment 39-13268.

Applicability: The series airplanes, certificated in any category, listed in the following table:

Table—Applicability
Model— | Equipped with Honeywell initial reference units having part No. | Excluding airplanes modified in accordance with—
A300 B4-600, A300 B4-600R, and A300 F4-600R (collectively called A300-600); and A310 | HG1050BD02 or HG1050BD05 | Airbus Modification 12304 in production; or Airbus Service Bulletin A300-34-6135, Revision 01, dated September 10, 2001 (for Model A300-600 series airplanes); or Airbus Service Bulletin A310-34-2158, Revision 01, dated September 10, 2001 (for Model A310 series airplanes); as applicable.

Compliance: Required as indicated, unless accomplished previously.

To prevent loss of positioning data and a display of incorrect attitude data to the flightcrew, which could compromise the ability of the flightcrew to maintain the safe flight and landing of the airplane, accomplish the following:

Replacement of Inertial Reference Units (IRU)

(a) Within 35 months after the effective date of this AD: Replace the existing Honeywell IRUs with new or modified Honeywell IRUs, per the Accomplishment Instructions specified in Airbus Service Bulletin A300-34-6135, Revision 01 (for Model A300 B4-600, A300 B4-600R, and A300-F4-600R (collectively called A300-600 series airplanes)); or Airbus Service Bulletin A310-34-2158, Revision 01 (for Model A310 series airplanes); both dated September 10, 2001; as applicable.

(b) Accomplishment of the replacement specified in Airbus Service Bulletin A300-34-6135 (for Model A300-600 series airplanes); or Airbus Service Bulletin A310-34-2158 (for Model A310 series airplanes); both dated March 9, 2001; as applicable; is acceptable for compliance with the replacement requirement of paragraph (a) of this AD.

Note 1: Airbus Service Bulletin A300-34-6135, Revision 01; and Airbus Service Bulletin A310-34-2158, Revision 01; both dated September 10, 2001; reference Honeywell Service Bulletin HG1050BD-34-0009, dated April 17, 2001; and Honeywell Service Bulletin HG1050BD-34-0010, Revision 001, dated April 16, 2001; as additional sources of service information for accomplishing the replacements required by this AD.

Alternative Methods of Compliance

(c) In accordance with 14 CFR 39.19, the Manager, International Branch, ANM-116, FAA, Transport Airplane Directorate, is authorized to approve alternative methods of compliance for this AD.

Incorporation by Reference

(d) Unless otherwise specified in this AD, the actions shall be done in accordance with Airbus Service Bulletin A300-34-6135, Revision 01, dated September 10, 2001; or Airbus Service Bulletin A310-34-2158, Revision 01, dated September 10, 2001; as applicable. This incorporation was approved previously by the Director of the Federal Register as of September 22, 2003 (68 FR 49340, August 18, 2003). Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 2: The subject of this AD is addressed in French airworthiness directive 2001-303(B), dated July 25, 2001.

Effective Date

(e) This amendment becomes effective upon date of publication in the Federal Register.

Issued in Renton, Washington, on September 23, 2003.
Ali Bahrami,
Acting Manager, Transport Airplane Directorate, Aircraft Certification Service.

[FR Doc. 03-24487 Filed 9-24-03; 1:09 pm]

BILLING CODE 4910-13-P